GENERAL SERVICES ADMINISTRATION

Proposed Collection: Submission for OMB Review; Comment Request Entitled American Customer Satisfaction Index

AGENCY: General Services Administration (GSA).

ACTION: Notice of request for approval of an information collection entitled American Customer Satisfaction Index.

SUMMARY: Under the provisions of the Paperwork Reduction Act of 1995 (44 U.S.C. Chapter 35), GSA has submitted to the Office of Management and Budget (OMB) a request to review and approve an information collection concerning American Customer Satisfaction Index (ACSI). An emergency review was requested by OMB, and a notice was published in the Federal Register at 64 FR 36690, July 7, 1999. OMB approved the emergency collection and assigned OMB No. 3090-0271. The information collection also was published in the Federal Register on November 26, 1999 at 64 FR 66478 allowing for the standard 60-day public comment period. No comments were received.

The following summary of the proposed information collection activity is designed to support the customer satisfaction policies outlined in Executive Order 12862, “Setting Customer Service Standards,” and to establish a means to consistently measure and compare customer satisfaction among high-impact agencies within the Executive Branch. GSA serves as the Executive Agent for this initiative and has selected the ACSI through a competitive procurement process as the vehicle for obtaining the required information.

The ACSI is a cross-industry, cross-agency methodology for obtaining comparable measures of customer satisfaction. Along with other economic objectives—such as employment and growth—the quality of output (goods and services) is a part of measuring living standards The ACSI's ultimate purpose is to help improve the quality of goods and services available to the American people.

The surveys that comprise the Federal Government's portion of the ACSI will be completed subject to the Privacy Act of 1974, Public Law 93-579, December 31, 1974 (5 U.S.C. 552a). The agency information collection will be used solely for the purpose of the survey. The ACSI partnership will not be authorized to release any agency information upon completion of the survey without first obtaining permission from GSA and the agency in question. In no case shall any new system of records containing privacy information be developed by GSA, participating agencies, or the contractor responsible for compiling the ACSI. In addition, participating Federal agencies may only provide information used to randomly select respondents from among established systems of records providing for such routine uses.

This survey asks no questions of a sensitive nature, such as sexual behavior and attitudes, religious beliefs, and other matters that are commonly considered private.

DATES: Submit comments on or before March 24, 2000.

ADDRESSES: Comments concerning this notice should be submitted to: Edward Springer, GSA Desk Officer, Room 3235, NEOB, Washington, DC 20503 and also may be submitted to James L. Dean, Director, Committee Management Secretariat, Room G-230 (MC), 1800 F Street, NW, Washington, DC 20405, or e-mail to James.Dean@gsa.gov.

FOR FURTHER INFORMATION CONTACT: James Dean, Director, Committee Management Secretariat, General Services Administration at (202) 273-3563, or by e-mail to James.Dean@gsa.gov.

SUPPLEMENTARY INFORMATION:

A. Purpose

The purpose of this Notice is to consult with and solicit comments from the public and affected agencies concerning the proposed collection of information under the ACSI to help improve the quality of goods and services available to the American people.

B. Annual Reporting Burden

Participation by Federal agencies in the ACSI is expected to vary as new customer segments measured are added or deleted. However, projected estimates for fiscal years 1999 through 2001 are as follows:

Fiscal Year 1999—30 Customer Segments

Respondents: 7,800; annual responses: 7,800; average minutes per response: 10; burden hours: 1,300.

Fiscal Year 2000—90 Customer Segments

Respondents: 23,400; annual responses: 23,400; average minutes per response: 10; burden hours: 3,900.

Fiscal Year 2001—200 Customer Segments

Respondents: 52,000; annual responses: 52,000; average minutes per response: 10; burden hours: 8,667.

COPY OF PROPOSAL: A copy of this proposal may be obtained by contacting James Dean at the above address.

Dated: February 16, 2000.
J. Les Davison,
Acting Deputy Associate Administrator for Acquisition Policy.

[FR Doc. 00-4267 Filed 2-22-00; 8:45 am]

BILLING CODE 6820-61-M